ENVIRONMENTAL PROTECTION AGENCY

[EPA-HQ-OW-2006-0454; FRL-8232-8]

Agency Information Collection Activities; Submission to OMB for Review and Approval; Comment Request; Community Water System Survey 2006; EPA ICR No. 2232.01; OMB Control No. 2040—New

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before November 20, 2006.

ADDRESSES: Submit your comments, referencing Docket ID No. EPA-HQ-OW-2006-0454, to (1) EPA online using http://www.regulations.gov (our preferred method), by e-mail to OW—OW-Docket@epa.gov, or by mail to Water Docket, EPA Docket Center, Environmental Protection Agency, Mail Code 4101T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Brian Rourke, Standards and Risk Management Division (Mailcode 4607M), Office of Ground Water and Drinking Water, Environmental Protection Agency, 1200 Pennsylvania Ave. NW., Washington, DC 20460; telephone number: 202-564-5241; fax number 202-564-3760; e-mail address: rourke.brian@epa.gov.

SUPPLEMENTARY INFORMATION: EPA has submitted the following ICR to OMB for review and approval according to the procedures prescribed in 5 CFR 1320.12. On June 1, 2006 71 FR 31176-31177), EPA sought comments on this ICR pursuant to 5 CFR 1320.8(d). EPA received 2 comments during the comment period, which are addressed in the ICR. Any additional comments on this ICR should be submitted to EPA and OMB within 30 days of this notice.

EPA has established a public docket for this ICR under Docket ID No. EPA-HQ-OW-2006-0454, which is available for online viewing at http://www.regulations.gov, or in person viewing at the Water Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Water Docket is 202-566-2422.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Community Water System Survey 2006.

ICR numbers: EPA ICR No. 2232.01, OMB Control No. 2040—new.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Last conducted in 2001, the Community Water System Survey is conducted about every 5 years to gather information on the operating and financial characteristics of a nationally representative sample of community water systems. The agency uses the data provided by this survey to meet its Regulatory Impact Analysis obligations under EO 12866 and its obligations to assess and mitigate regulatory impacts on small entities under the Regulatory Flexibility Act and the Small Business Regulatory Enforcement Fairness Act. Also, under Section 1412(b)(3)(C) of the Safe Drinking Water Act, the Agency must prepare a Health Risk Reduction and Cost Analysis for any proposed National Primary Drinking Water Regulation. Through this survey EPA seeks to gather information on community drinking water system finances, as well as infrastructure characteristics that bear on both present costs and future cost impacts, including current treatment, storage and distribution system configurations, to help inform the Agency's determination of baseline conditions for effective economic analysis. In addition, the survey will provide a limited amount of information to help the agency better conduct its outreach efforts to assist the regulated community and gauge the effectiveness of current program initiatives in the area of water security. This is a one-time collection effort. Responses are voluntary and are not required in order to obtain or retain any benefit. The Agency does not intend to share or make public the names or identities of survey participants.

Burden Statement: The annual public reporting and recordkeeping burden for this collection of information is estimated to average one to five hours per response, depending on the size of the water system sampled. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Investor-owned water systems (SIC 4941) and publicly owned water systems (SIC 9511).

Estimated Number of Respondents: 1,692.

Frequency of Response: Once.

Estimated Total Annual Hour Burden: 6,060 (respondents); 300 (States).

Estimated Total Annual Cost: $191,693 (respondents); $10,830 (States), includes $0 annualized capital or O&M costs.

Dated: October 11, 2006.
Oscar Morales,
Director, Collection Strategies Division.

[FR Doc. E6-17446 Filed 10-18-06; 8:45 am]

BILLING CODE 6560-50-P